DEPARTMENT OF COMMERCE

Foreign-Trade Zones Board

(Docket T-5-2008)

Foreign-Trade Zone 122 - Corpus Christi, Texas

Application for Temporary/Interim Manufacturing Authority

Excalibar Minerals LLC

(Barite Milling)

Corpus Christi, Texas

An application has been submitted to the Executive Secretary of the Foreign-Trade Zones Board (the Board) by the Port of Corpus Christi Authority, grantee of FTZ 122, requesting temporary/interim manufacturing (T/IM) authority on behalf of Excalibar Minerals LLC (Excalibar) at the company's barite milling facility within FTZ 122 in Corpus Christi, Texas. The application was filed on November 20, 2008.

The Excalibar facility (14 employees) is located at 3202 E. Navigation Boulevard in Corpus Christi, Texas (within Site 1). Under T/IM procedures, Excalibar would produce up to 175,000 tons of ground barite (HTSUS 2511.10.10) annually, primarily for the U.S. market. The foreign component that would be used in production (representing approximately 95 percent of total material inputs) is raw barite (HTSUS 2511.10.50), dutiable at $1.25 per metric ton.

FTZ procedures could exempt Excalibar from customs duty payments on the foreign component used in export production (less than 1 percent of shipments). On domestic sales, Excalibar would be able to choose the duty rate that applies to the finished product (duty-free) for the foreign input noted above that has a higher duty rate. The company may also realize certain logistical/procedural savings as well as savings on materials that become scrap/waste during manufacturing.

Public comment is invited from interested parties. Submissions (original and 3 copies) shall be addressed to the Board's Executive Secretary at the address listed below. The closing period for their receipt is January 2, 2009. For further information, contact Christopher Kemp at christopher_kemp@ita.doc.gov, or (202) 482-0862.

A copy of the application will be available for public inspection at the Office of the Foreign-Trade Zones Board's Executive Secretary at the address listed above.

Dated: November 20, 2008.
Andrew McGilvray,
Executive Secretary.

[FR Doc. E8-28592 Filed 12-1-08; 8:45 am]

BILLING CODE 3510-DS-S